FEDERAL EMERGENCY MANAGEMENT AGENCY

44 CFR Part 65

[Docket No. FEMA-B-7415]

Changes in Flood Elevation Determinations

AGENCY: Federal Emergency Management Agency (FEMA).

ACTION: Interim rule.

SUMMARY: This interim rule lists communities where modification of the base (1% annual chance) flood elevations (BFEs) is appropriate because of new scientific or technical data. New flood insurance premium rates will be calculated from the modified BFEs for new buildings and their contents.

DATES: These modified BFEs are currently in effect on the dates listed in the table below and revise the Flood Insurance Rate Map(s) in effect prior to this determination for each listed community.

From the date of the second publication of these changes in a newspaper of local circulation, any person has ninety (90) days in which to request through the community that the Acting Administrator, Federal Insurance Administration and Mitigation reconsider the changes. The modified elevations may be changed during the 90-day period.

ADDRESSES: The modified BFEs for each community are available for inspection at the office of the Chief Executive Officer of each community. The respective addresses are listed in the following table.

FOR FURTHER INFORMATION CONTACT: Matthew B. Miller, P.E., Chief, Hazards Study Branch, Mitigation Directorate, FEMA, 500 C Street SW., Washington, DC 20472, (202) 646-3461, or (e-mail) matt.miller@fema.gov.

SUPPLEMENTARY INFORMATION: The modified BFEs are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR part 10, Environmental Consideration. No environmental impact assessment has been prepared.

Regulatory Flexibility Act. The Acting Administrator, Federal Insurance Administration and Mitigation certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alaska: Unorganized Borough | Municipality of Anchorage | April 6, 2001, April 13, 2001, Anchorage Daily News | The Honorable George P. Wuerch, Mayor, Municipality of Anchorage, P.O. Box 196650, Anchorage, Alaska 99519-6650 | March 14, 2001 | 020005
Arkansas:
Faulkner | City of Conway | April 5, 2001, April 13, 2001, Log Cabin Democrat | The Honorable Tab Townsell, Mayor, City of Conway, City Hall, 1201 Oak Street, Conway, Arkansas 72032 | March 13, 2001 | 050078
Faulkner | Unincorporated Areas | April 5, 2001, April 13, 2001, Log Cabin Democrat | The Honorable John Wayne Carter, Faulkner County Judge, Faulkner County Court House, 801 Locust Avenue, Conway, Arkansas 72032 | March 13, 2001 | 050431
Arizona:
Maricopa | City of Scottsdale | April 6, 2001, April 13, 2001, Arizona Republic | The Honorable Mary Manross, Mayor, City of Scottsdale, 3939 North Drinkwater Boulevard, Scottsdale, Arizona 85251 | March 13, 2001 | 045012
Maricopa | City of Tucson | March 23, 2001, March 30, 2001, Tucson Citizen | The Honorable Robert Walkup, Mayor, City of Tucson, P.O. Box 27210, Tucson, Arizona 85726 | March 5, 2001 | 040076
Maricopa | Unincorporated Areas | April 6, 2001, April 13, 2001, Arizona Republic | The Honorable Janice K. Brewer, Chairman, Maricopa County Board of Supervisors, 301 West Jefferson, 10th Floor, Phoenix, Arizona 85003 | July 5, 2001 | 040037
California:
Los Angeles | City of Los Angeles | March 30, 2001, April 6, 2001, Metropolitan News-Enterprise | The Honorable Richard Riordan, Mayor, City of Los Angeles, 200 North Main Street, Room 800, Los Angeles, California 90012 | March 6, 2001 | 060137
Los Angeles | Unincorporated Areas | March 30, 2001, April 6, 2001, Whittier Daily News | The Honorable Michael Antonovich, Chairperson, Los Angeles County Board of Supervisors, 500 West Temple Street, Suite 869, Los Angeles, California 90012 | March 9, 2001 | 065043
San Diego | City of El Cajon | May 17, 2001, May 24, 2001, East County Californian | The Honorable Mark Lewis, Mayor, City of El Cajon, 200 East Main Street, El Cajon, California 92020 | April 27, 2001 | 060289
San Diego | Unincorporated Areas | May 17, 2001, May 24, 2001, San Diego Union Tribune | The Honorable Bill Horn, Chairman, San Diego County Board of Supervisors, 1600 Pacific Highway, Room 335, San Diego, California 92101 | April 27, 2001 | 060284
Santa Clara | City of Santa Clara | April 11, 2001, April 18, 2001, Santa Clara Weekly | The Honorable Judy Nadler, Mayor, City of Santa Clara, City Hall, 1500 Warburton Avenue, Santa Clara, California 95050 | July 17, 2001 | 060350
Santa Clara | City of Milpitas | May 31, 2001, June 7, 2001, Milpitas Post | The Honorable Henry Manayan, Mayor, City of Milpitas, 455 East Calaveras Boulevard, Milpitas, California 95035 | May 15, 2001 | 060344
Colorado: Boulder and Jefferson | City of Broomfield | May 30, 2001, June 6, 2001, Broomfield Enterprise | The Honorable William Berens, Mayor, City of Broomfield, One DesCombes Drive, Broomfield, Colorado 80020 | September 4, 2001 | 085073
Montana: Butte-Silver | Unincorporated Areas Bow County | March 23, 2001, March 30, 2001, Montana Standard | The Honorable Judy Jacobsen, Chief Executive Officer, Butte-Silver Bow County Courthouse, Room 106, 155 West Granite Street, Butte, Montana 59701 | March 1, 2001 | 300077
Nevada:
Clark | City of North Las Vegas | May 18, 2001, May 25, 2001, Las Vegas Review Journal | The Honorable Michael L. Montandon, Mayor, City of North Las Vegas, P.O. Box 4086, North Las Vegas, Nevada 89030-4086 | April 27, 2001 | 320007
Nye | Unincorporated Areas | April 26, 2001, May 3, 2001, Tonopah Times | The Honorable Jeff Taguchi, Chairman, Nye County Board of Commissioners, P.O. Box 153, Tonopah, Nevada 89049 | April 5, 2001 | 320018
Texas:
Angelina | City of Lufkin | March 30, 2001, April 6, 2001, Lufkin Daily News | The Honorable Louis A. Bronaugh, Mayor, City of Lufkin, 300 East Shepherd, Lufkin, Texas 75902 | June 28, 2001 | 480009
Collin | City of Murphy | August 16, 2000, August 23, 2000, Wylie News | The Honorable Roy W. Bentle, Mayor, City of Murphy, 205 North Murphy Road, Murphy, Texas 75094 | July 25, 2000 | 480137
Fort Bend | City of Stafford | April 18, 2001, April 25, 2001, Fort Bend Star | The Honorable Leonard Scarcella, Mayor, City of Stafford, City Hall, 2610 South Main Street, Stafford, Texas 77477 | March 23, 2001 | 480233
Wyoming: Teton | Town of Jackson | October 25, 2000, November 1, 2000, Jackson Hole News | The Honorable Barney Oldfield, Mayor, Town of Jackson, P.O. Box 1687, Jackson, Wyoming 83001 | January 30, 2001 | 560052
Virginia:
Rockingham | City of Harrisonburg | April 12, 2001, April 19, 2001, Daily News Record | The Honorable Carolyn W. Frank, Mayor, City of Harrisonburg, 374 South Carlton Street, Harrisonburg, Virginia 22801 | March 28, 2001 | 510076
Rockingham | Unincorporated Areas | April 12, 2001, April 19, 2001, Daily News Record | The Honorable Pablo Cuevas, Chairman, Rockingham County Board of Supervisors, 543 Elm Street, Broadway, Virginia 22815 | March 28, 2001 | 510133

(Catalog of Federal Domestic Assistance No. 83.100, “Flood Insurance.”)

Dated: June 18, 2001.
Robert F. Shea,
Acting Administrator, Federal Insurance Administration and Mitigation.

[FR Doc. 01-15925 Filed 6-25-01; 8:45 am]

BILLING CODE 6718-04-P